DEPARTMENT OF HEALTH AND HUMAN SERVICES

Centers for Disease Control and Prevention

[30 Day-06-0278)

Agency Forms Undergoing Paperwork Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Hospital Ambulatory Medical Care Survey [OMB No. 0920-0278]—Revision—National Center for Health Statistics (NCHS), Centers for Disease Control and Prevention (CDC).

Background and Brief Description

The National Hospital Ambulatory Medical Care Survey (NHAMCS) has been conducted annually since 1992. The purpose of the NHAMCS is to meet the needs and demands for statistical information about the provision of ambulatory medical care services in the United States. Ambulatory services are rendered in a wide variety of settings, including physicians' offices and hospital outpatient and emergency departments. The target universe of the NHAMCS is in-person visits made to outpatient departments (OPDs) and emergency departments (EDs) of non-Federal, short-stay hospitals (hospitals with an average length of stay of less than 30 days) or those whose specialty is general (medical or surgical) or children's general.

The NHAMCS was initiated to complement the National Ambulatory Medical Care Survey (NAMCS, OMB No. 0920-0234) which provides similar data concerning patient visits to physicians' offices. The NAMCS and NHAMCS are the principal sources of data on approximately 90 percent of ambulatory care provided in the United States.

The NHAMCS provides a range of baseline data on the characteristics of the users and providers of ambulatory medical care. Data collected include patients' demographic characteristics, reason(s) for visit, physicians' diagnosis(es), diagnostic services, medications, and disposition. These data, together with trend data, may be used to monitor the effects of change in the health care system, for the planning of health services, improving medical education, determining health care work force needs, and assessing the health status of the population. In addition, a Cervical Cancer Screening Supplement (CCSS) will be added to collect information on cervical cancer screening practices from hospital OPD clinics. It will allow the CDC/National Center for Chronic Disease Prevention and Health Promotion (NCCDPHP) to evaluate cervical cancer screening methods and the use of human papilloma virus (HPV) tests.

Users of NHAMCS data include, but are not limited to, congressional offices, Federal agencies, state and local governments, schools of public health, colleges and universities, private industry, nonprofit foundations, professional associations, clinicians, researchers, administrators, and health planners. There are no costs to the respondents other than their time. The total estimated annualized burden hours are 7,313.

Estimated Annualized Burden Hours
Type of respondents | Form name | Number of respondents | Number of responses per respondent | Average burden per response (in hours)
Hospital Chief Medical Officer | Hospital Induction form (NHAMCS—101) |  |  |
| Ineligile | 50 | 1 | 15/60
| Eligible | 420 | 1 | 1
Ancillary Service Executive | Ambulatory Unit Induction form (ED) (NHAMCS—101/U) | 400 | 1 | 1
Ancillary Service Executive | Ambulatory Unit Induction form (OPD) (NHAMCS—101/U) | 250 | 4 | 1
Physician/Registered Nurse/Medical Record Clerk | ED Patient Record form (NHAMCS—100 ED) | 220 | 100 | 6/60
Medical Record Clerk | Pulling and re-filing ED Patient Record | 180 | 100 | 1/60
Physician/Registered Nurse/Medical Record Clerk | OPD Patient Record form (NHAMCS—100 OPD) | 125 | 200 | 6/60
Medical Record Clerk | Pulling and re-filing OPD Patient Record | 125 | 200 | 1/60
Physician | Cervical Cancer Screening Supplement (CCSS) (NHAMCS form 906) | 200 | 1 | 15/60
Physician Assistant/Nurse Practitioner/Nurse Midwife | Cervical Cancer Screening Supplement (CCSS) (NHAMCS form 906) | 50 | 1 | 15/60

Dated: June 22, 2006.
Joan F. Karr,
Acting Reports Clearance Officer, Centers for Disease Control and Prevention.

[FR Doc. E6-10358 Filed 6-30-06; 8:45 am]

BILLING CODE 4163-18-P